DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before (15 days after publication).

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC; or at http://dms.dot.gov.

This notice of receipt of applications for modification of exemptions is published in accordance with Part 107 of the Federal hazardous materials transportation law (49 U.S.C. 5117(b); 49 CFR 1.53(b)).

Issued in Washington, DC, on September 14, 2001.
R. Ryan Posten,
Exemptions Program Officer, Office of Hazardous Materials Exemptions and Approvals.

Application No. | Docket No. | Applicant | Modification of Exemption
7007-M |  | Allied Universal Corp., Miami, FL (See Footnote 1) | 7007
9884-M |  | Puritan Bennett Corp. (Div. of Tyco Healthcare), Indianapolis, IN (See Footnote 2) | 9884
10688-M |  | Alaska Air Taxi, Anchorage, AK (See Footnote 3) | 10688
11761-M |  | The Mead Corporation, Dayton, OH (See Footnote 4) | 11761
11761-M |  | Brenntag West, Inc., Santa Fe Springs, CA (See Footnote 5) | 11761
11791-M |  | The Coleman Company, Inc., Wichita, KS (See Footnote 6) | 11791
11850-M | RSPA-97-2308 | Air Transport Association, Washington, DC (See Footnote 7) | 11850
12532-M | RSPA-00-7864 | Carleton Technologies, Inc., Orchard Park, NY (See Footnote 8) | 12532
12590-M | RSPA-01-9890 | USAirways, Inc., Pittsburgh, PA (See Footnote 9) | 12590
12599-M | RSPA-01-8918 | Voltaix, Inc., North Branch, NJ (See Footnote 10) | 12599
12652-M | RSPA-01-9061 | Eagle-Picher Technologies, LLC, Joplin, MO (See Footnote 11) | 12652
12705-M | RSPA-01-9726 | Brenntag Mid-South, Inc., Henderson, KY (See Footnote 12) | 12705
12808-M |  | Linco-Electromatic Measurement, Inc., Kilgore, TX (See Footnote 13) | 12808
¹ To modify the exemption to authorize the use of additional non-DOT specification multi-unit tank car tanks with minimum shell thickness for the transportation of Division 2.3 materials.
² To modify the exemption to authorize the use of a brazing procedure for bonding of the non-DOT specification cylinder tubes with the heads for the transportation of certain Division 2.2 materials.
³ To modify the exemption to authorize alternative packaging for the non-DOT specification polyethylene containers with an increased container size to 6 gallons for the transportation of a Class 3 material; the addition of cargo aircraft only as an additional mode of transportation.
⁴ To modify the exemption to authorize the transportation of additional Class 8 materials in certain DOT and AAR Specification tank cars with a modified inspection procedure.
⁵ To modify the exemption to authorize relief from the inspection requirements of the underside rupture disk of the DOT and AAR Specification tank car tanks and the transportation of all Class 8 materials.
⁶ To modify the exemption to authorize the use of a smaller size DOT 2Q nonrefillable inner container for the transportation of certain Division 2.1 materials.
⁷ To modify the exemption to authorize the use of certain DOT and non-DOT specification cylinders fabricated from 4130 steel and titanium for the transportation of Division 2.2 materials.
⁸ To modify the exemption to authorize one refill cycle of the non-DOT specification non-refillable welded stainless steel cylinder for the transportation of certain Division 2.2 materials.
⁹ To modify the exemption originally issued on an emergency basis for the transportation of certain Class 8 materials in non-DOT specification specially designed containers and the transportation of an additional Class 8 material.
¹⁰ To modify the exemption to authorize germane mixtures, Division 2.1 and 2.3, to be transported in DOT Specification 3AA and 3AAX manifold cylinders.
¹¹ To reissue the exemption originally issued on an emergency basis for the transportation of a Division 2.1 material in a non-DOT specification pressure vessel.
¹² To modify the exemption originally issued on an emergency basis for the transportation of a Class 8 material in drums that do not meet the minimum thickness requirements.
¹³ To reissue the exemption originally issued on an emergency basis for the transportation of Class 3 materials in a non-DOT specification container described as a truck mounted mechanical displacement meter prover.

[FR Doc. 01-23430 Filed 9-19-01; 8:45 am]

BILLING CODE 4910-60-M